DEPARTMENT OF THE INTERIOR

Fish and Wildlife Service

50 CFR Part 17

[Docket No. FWS-R5-ES-2011-0024; 4500030113]

RIN 1018-AY98

Endangered and Threatened Wildlife and Plants; Listing the Northern Long-Eared Bat With a Rule Under Section 4(d) of the Act; Correction

AGENCY: Fish and Wildlife Service, Interior.

ACTION: Proposed rule; correction.

SUMMARY: We, the U.S. Fish and Wildlife Service (Service), published a proposed rule in the Federal Register on January 16, 2015, to set forth a species-specific rule under the authority of section 4(d) of the Endangered Species Act of 1973, as amended (Act), that provides measures that are necessary and advisable to provide for the conservation of the northern long-eared bat (Myotis septentrionalis), should we determine this species warrants listing as a threatened species under the Act. In that proposal, we provided the wrong address for the submission of hard-copy comments. With this document, we correct our error.

DATES: We will accept comments on the January 16, 2015, proposed rule that are received or postmarked on or before March 17, 2015.

ADDRESSES: You may submit comments on the January 16, 2015, proposed rule by one of the following methods:

(1) Electronically: Go to the Federal eRulemaking Portal: http://www.regulations.gov. In the Search box, enter FWS-R5-ES-2011-0024, which is the docket number for this rulemaking. You may submit a comment by clicking on “Comment Now!”

(2) By hard copy: Submit by U.S. mail or hand-delivery to: Public Comments Processing, Attn: FWS-R5-ES-2011-0024; Division of Policy and Directives Management; U.S. Fish and Wildlife Service, MS: BPHC; 5275 Leesburg Pike, Falls Church, VA 22041-3803.

We request that you send comments only by one of the methods described above. We will post all comments on http://www.regulations.gov. This generally means that we will post any personal information you provide us (for more information, see the Public Comments section of the January 16, 2015, proposed rule at 80 FR 2371).

FOR FURTHER INFORMATION CONTACT: Tony Sullins, Endangered Species Chief, Midwest Regional Office, 5600 American Blvd. West, Suite 990, Bloomington, MN 55437; telephone 612-725-3548; or facsimile 612-725-3548. Persons who use a telecommunications device for the deaf (TDD) may call the Federal Information Relay Service (FIRS) at 800-877-8339.

SUPPLEMENTARY INFORMATION: In a proposed rule that published in the Federal Register on January 16, 2015, at 80 FR 2371, the ADDRESSES section provided the wrong address for the submission of hard-copy comments. The corrected ADDRESSES section appears above.

Dated: January 27, 2015.
Tina A. Campbell,
Chief, Division of Policy and Directives Management.

[FR Doc. 2015-01804 Filed 1-29-15; 8:45 am]

BILLING CODE 4310-55-P